SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before May 18, 2015.

ADDRESSES: Send all comments to Erin Kelley, Director of Research and Policy, Office of National Women's Business Council, Small Business Administration, 409 3rd Street, 5th Floor, Washington, DC 20416.

FOR FURTHER INFORMATION CONTACT: Erin Kelley, Director of Research and Policy, Office of National Women's Business Council, erin.kelley@nwbc.gov 202-205-6826, or Curtis B. Rich, Management Analyst, 202-205-7030, curtis.rich@sba.gov.

SUPPLEMENTARY INFORMATION: The National Women's Business Council (NWBC) advises the SBA, the President, and Congress on issues affecting women business owners, NWBC will conduct six focus groups to probe the perceived and actual barriers to women obtaining IP protection and examine how to address such barriers. The participants will be women entrepreneurs who: (1) Successfully obtained patents and trademarks; (2) have applied for but not relived patents and trademarks; (3) have no knowledge of patents or trademarks.

Solicitation of Public Comments:

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection:

Title: Small Business Administration, Nation Women's Intellectual Property and Women Entrepreneurs.

Description of Respondents: Women Entrepreneurs.

Form Number: N/A.

Total Estimated Annual Responses: 60.

Total Estimated Annual Hour Burden: 100.

Curtis B. Rich,
Management Analyst.

[FR Doc. 2015-06326 Filed 3-18-15; 8:45 am]

BILLING CODE 8025-01-P